DEPARTMENT OF HEALTH AND HUMAN SERVICES

Administration for Children and Families

Statement of Organization, Functions, and Delegations of Authority

This notice amends Part K of the Statement of Organization, Functions, and Delegations of Authority of the Department of Health and Human Services (HHS), Administration for Children and Families (ACF) as follows: Chapter KC.00, Chapter KC.10, Chapter KC.20 Paragraph B, and Chapter KC.20 Paragraph C, the Administration on Developmental Disabilities (ADD) (69 FR 35378-79), as last amended June 24, 2004. Chapters KC.00 and KC.20 Paragraph C are amended to replace outdated references to University Affiliated Programs with references to the current grant program, University Centers for Excellence in Developmental Disabilities. Chapters KC.00 and KC.20 Paragraph B are amended to more fully describe the grant programs that ADD will administer under the Help America Vote Act. Chapter KC.20 Paragraph B is also amended to delete outdated references to the Basic State Grants program. Chapters KC.10 and KC.20 Paragraph C are amended to reflect the new name of the Office of Operations and Discretionary Grants. This notice reflects ADD's responsibilities in implementing election assistance for individuals with disabilities under the Help America Vote Act of 2002 (HAVA), Pub. L. 107-252, 116 Stat. 1666 (2002). The authority to administer HAVA was delegated to the Assistant Secretary, ACF, by the Secretary on February 9, 2004, and subsequently redelegated to the Commissioner, Administration on Developmental Disabilities by the Assistant Secretary, ACF, on April 2, 2004. In addition, it establishes the Office of Programs and the Office of Operations and Discretionary Grants, eliminates the Deputy Commissioner position, and moves the Administration and Planning Staff and their functions to the newly established Office of Operations and Discretionary Grants. This notice is being republished in its entirety for the convenience of the reader.

These Chapters are amended as follows:

1. Chapter KC, Administration on Developmental Disabilities

A. Delete KC.00 Mission in its entirety and replace with the following:

KC.00 Mission. The Administration on Developmental Disabilities advises the Secretary, through the Assistant Secretary for Children and Families, on matters relating to individuals with developmental disabilities and their families. ADD serves as the focal point in the Department to support and encourage the provision of quality services to individuals with developmental disabilities and their families. ADD assists states, through the design and implementation of comprehensive and continuing state plans, to increase the independence, productivity and community inclusion of individuals with developmental disabilities. These state plans make optimal use of existing federal and state resources for the provision of services and supports to these individuals and their families to achieve these outcomes. ADD works with the states to ensure that the rights of all individuals with developmental disabilities are protected.

ADD administers two formula grant programs under the Developmental Disabilities Assistance and Bill of Rights Act (the DD Act), the State Councils on Developmental Disabilities and the Protection and Advocacy Systems, and two discretionary grant programs, University Centers for Excellence in Developmental Disabilities and Projects of National Significance grant programs, including family support grants. These programs support the provision of services to individuals with developmental disabilities and their families. In concert with other components of ACF as well as other public, private, and voluntary sector partners, ADD supports research, demonstration and evaluation activities designed to improve and enrich the lives of individuals with developmental disabilities. In addition, ADD serves as a resource in the development of policies and programs to reduce or eliminate barriers experienced by individuals with developmental disabilities through the identification of promising practices and dissemination of information. ADD manages initiatives involving the private and voluntary sectors that benefit individuals with developmental and other disabilities and their families.

ADD also manages and administers three grant programs authorized by HAVA. Two are formula grant programs: State and Local Grants for Election Assistance for Individuals with Disabilities (EAID) to improve access to polling places for individuals with disabilities, and Grants to Protection and Advocacy Systems to ensure full participation in the voting process for voters with disabilities. The third is a discretionary grant program for training and technical assistance for Protection and Advocacy Systems under the HAVA election assistance provisions.

B. Delete KC.10 Organization in its entirety and replace with the following:

KC.10 Organization. The Administration on Developmental Disabilities is headed by a Commissioner who reports directly to the Assistant Secretary for Children and Families. The Administration on Developmental Disabilities consists of:

• The Office of the Commissioner (KCA).

• The Office of Programs (KCB).

• The Office of Operations and Discretionary Grants (KCC).

C. Delete KC.20 Functions, paragraph A in its entirety and replace with the following:

KC.20 Functions. A. The Office of the Commissioner serves as the principal advisor to the Assistant Secretary for Children and Families, the Secretary, and other elements of the Department for individuals with developmental disabilities. The Office provides executive direction and management strategy to ADD's components and establishes goals and objectives for ADD programs.

In coordination with the ACF Office of Public Affairs, the Office of the Commissioner develops a strategy for increasing public awareness of the needs of individuals with developmental disabilities and programs designed to address them.

D. Delete KC.20 Functions, paragraph B in its entirety and replace with the following:

B. The Office of Programs is responsible for the coordination, management and evaluation of the State Councils on Developmental Disabilities grant program and the Protection and Advocacy grant program, including the development of procedures and performance standards that ensure compliance with the Developmental Disabilities Assistance and Bill of Rights Act (DD Act) and improve the outcomes of State Councils on Developmental Disabilities and Protection and Advocacy Systems in increasing the independence, productivity and community inclusion of persons with developmental disabilities.

The Office of Programs also administers two formula grants under the Help America Vote Act (State and Local Grants for Election Assistance for Individuals with Disabilities and Grants to Protection and Advocacy Systems) that improve accessibility for individuals with the full range of disabilities, including the blind and visually impaired, to polling places, including the path of travel, entrances, exits and voting facilities. The Office also administers a training and technical assistance grant program under the Help America Vote Act that provides technical assistance to Protection and Advocacy Systems in their mission to promote the full participation in the electoral process for individuals with the full range of disabilities, including registering to vote, casting vote, and accessing polling places.

The Office of Programs conducts routine and special analyses of state plans of State Councils on Developmental Disabilities and statements on the goals and objectives of State Protection and Advocacy Systems, including an examination of priority area activities, to assure consistent application of ADD program goals and objectives. The Office conducts reviews of programs to ensure compliance with the DD Act to improve program outcomes, and identifies and disseminates information regarding promising practices to advance the independence, productivity and community inclusion of people with developmental disabilities.

The Office of Programs initiates, executes and supports the development of interagency, intergovernmental and public-private sector agreements, committees, task forces, commissions or joint-funding efforts as appropriate.

The Office of Programs provides program and administrative guidance to regional offices on matters related to the implementation of the State Councils on Developmental Disabilities and Protection and Advocacy Systems grant programs and ensures timely and effective communication with the regional offices regarding program compliance, policy clarification and the approval of required state plans and reports.

E. Delete KC.20 Functions, paragraph C in its entirety and replace with the following:

C. The Office of Operations and Discretionary Grants plans, coordinates and controls ADD policy, planning and management activities which include the development of legislative proposals, regulations and policy issuances for ADD. The Office manages the formulation and execution of the program and operating budgets; provides administrative, personnel and information systems support services; serves as the ADD Executive Secretariat controlling the flow of correspondence; and coordinates with appropriate ACF components in implementing administrative requirements and procedures. The Office also coordinates interagency collaboration and program outreach activities.

The Office of Operations and Discretionary Grants also manages the discretionary grants and contracts mandated by the DD Act, and provides program development services. The Office originates and manages cross-cutting research, demonstration and evaluation initiatives with other components of ADD, ACF, HHS and other government agencies; and monitors and evaluates discretionary grants under the Projects of National Significance discretionary grant program and the University Centers for Excellence in Developmental Disabilities grant program.

The Office of Operations and Discretionary Grants provides program and administrative guidance to regional offices on matters related to the implementation of the Projects of National Significance discretionary grant program and the University Centers for Excellence in Developmental Disabilities grant program.

The Office of Operations and Discretionary Grants develops and initiates guidelines, policy issuances and actions with team participation by other components of ADD, ACF, HHS and other government agencies to fulfill the mission and goals of the DD Act, as amended. The Office ensures the dissemination of project results and information produced by ADD grantees.

Through the Projects of National Significance discretionary grant program, the Office of Operations and Discretionary Grants coordinates information sharing and other activities related to national program trends with other ACF programs and HHS agencies and studies, reviews and analyzes other federal programs providing services applicable to persons with developmental disabilities for the purpose of integrating and coordinating program efforts.

Dated: September 13, 2004.
Wade F. Horn,
Assistant Secretary for Children and Families.

[FR Doc. 04-21045 Filed 9-17-04; 8:45 am]

BILLING CODE 4184-01-P